DEPARTMENT OF AGRICULTURE

Forest Service

Uinta-Wasatch-Cache National Forest; Utah; Uinta Express Pipeline Project

AGENCY: Forest Service, USDA.

ACTION: Notice of cancellation of preparation of an environmental impact statement.

SUMMARY: The Uinta-Wasatch-Cache National Forest is cancelling the notice of intent issued on January 29, 2014 (79-FR-4657) for preparation of an environmental impact statement for the Uinta Express Pipeline Project. The proposed project and the associated environmental impact statement have been cancelled.

FOR FURTHER INFORMATION CONTACT: Questions concering this notice should be directed to Peter C. Gomben, Uinta-Wasatch-Cache National Forest Environmental Coordinator, 857 West South Jordan Parkway, South Jordan, UT 84095-8594. Telephone (801) 999-2182. Email: pgomben@fs.fed.us.

Dated: May 26, 2017.
Glenn P. Casamassa
Associate Deputy Chief, National Forest System.

[FR Doc. 2017-12368 Filed 6-14-17; 8:45 am]

BILLING CODE 3411-15-P